ENVIRONMENTAL PROTECTION AGENCY

40 CFR Part 52

[EPA-R05-OAR-2013-0414, EPA-R05-OAR-2013-0424, EPA-R05-OAR-2013-0425, EPA-R05-OAR-2013-0432; FRL-9906-50-Region 5]

Approval and Promulgation of Air Quality Implementation Plans; Indiana; Allen, Greene, Vanderburgh, Warrick, and Vigo Counties; 1997 8-Hour Ozone Maintenance Plan Revision to Approved Motor Vehicle Emissions Budgets

AGENCY: Environmental Protection Agency (EPA).

ACTION: Direct final rule.

SUMMARY: Under the Clean Air Act (CAA), the Environmental Protection Agency (EPA) is approving requests by Indiana to revise the 1997 8-hour ozone maintenance air quality state implementation plan (SIP) for Allen, Greene, Vanderburgh, Warrick, and Vigo Counties to replace onroad emissions inventories and motor vehicle emissions budgets (budgets) with inventories and budgets developed using EPA's Motor Vehicle Emissions Simulator (MOVES) emissions model. Indiana submitted the SIP revision requests for Allen, Vigo, Vanderburgh, and Warrick Counties on July 2, 2013, and submitted the SIP revision request for Greene County on July 8, 2013.

DATES: This direct final rule will be effective April 28, 2014, unless EPA receives adverse comments by March 27, 2014. If adverse comments are received, EPA will publish a timely withdrawal of the direct final rule in the Federal Register informing the public that the rule will not take effect.

ADDRESSES: Submit your comments, identified by Docket ID Nos. EPA-R05-OAR-2013-0414 (Vanderburgh and Warrick Counties), EPA-R05-OAR-2013-0424 (Allen County), EPA-R05-OAR-2013-0425 (Greene County), EPA-R05-OAR-2013-0432 (Vigo County), by one of the following methods:

1. www.regulations.gov: Follow the on-line instructions for submitting comments.

2. Email: blakley.pamela@epa.gov.

3. Fax: (312) 692-2450.

4. Mail: Pamela Blakley, Chief, Control Strategies Section, Air Programs Branch (AR-18J), U.S. Environmental Protection Agency, 77 West Jackson Boulevard, Chicago, Illinois 60604.

5. Hand Delivery: Pamela Blakley, Chief, Control Strategies Section, Air Programs Branch (AR-18J), U.S. Environmental Protection Agency, 77 West Jackson Boulevard, Chicago, Illinois 60604. Such deliveries are only accepted during the Regional Office normal hours of operation, and special arrangements should be made for deliveries of boxed information. The Regional Office official hours of business are Monday through Friday, 8:30 a.m. to 4:30 p.m., excluding Federal holidays.

Instructions: Direct your comments to Docket ID Nos. EPA-R05-OAR-2013-0414, EPA-R05-OAR-2013-0424, EPA-R05-OAR-2013-0425, EPA-R05-OAR-2013-0432. EPA's policy is that all comments received will be included in the public docket without change and may be made available online at www.regulations.gov, including any personal information provided, unless the comment includes information claimed to be Confidential Business Information (CBI) or other information whose disclosure is restricted by statute. Do not submit information that you consider to be CBI or otherwise protected through www.regulations.gov or email. The www.regulations.gov Web site is an “anonymous access” system, which means EPA will not know your identity or contact information unless you provide it in the body of your comment. If you send an email comment directly to EPA without going through www.regulations.gov your email address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the www.regulations.gov index. Although listed in the index, some information is not publicly available, e.g., CBI or other information whose disclosure is restricted by statute. Certain other material, such as copyrighted material, will be publicly available only in hard copy. Publicly available docket materials are available either electronically in www.regulations.gov or in hard copy at the Environmental Protection Agency, Region 5, Air and Radiation Division, 77 West Jackson Boulevard, Chicago, Illinois 60604. This facility is open from 8:30 a.m. to 4:30 p.m., Monday through Friday, excluding Federal holidays. We recommend that you telephone Anthony Maietta, Environmental Protection Specialist, at (312) 353-8777 before visiting the Region 5 office.

FOR FURTHER INFORMATION CONTACT: Anthony Maietta, Environmental Protection Specialist, Control Strategies Section, Air Programs Branch (AR-18J), Environmental Protection Agency, Region 5, 77 West Jackson Boulevard, Chicago, Illinois 60604, (312) 353-8777, maietta.anthony@epa.gov.

SUPPLEMENTARY INFORMATION: Throughout this document whenever “we,” “us,” or “our” is used, we mean EPA. This supplementary information section is arranged as follows:

I. What is EPA approving?

II. What is the background for this action?

a. SIP Budgets and Transportation Conformity.

b. Prior Approval of Budgets.

c. The MOVES Emissions Model.

d. Submission of New Budgets Based on MOVES2010a.

III. What are the criteria for approval?

IV. What is EPA's analysis of the State's submittals?

a. The Revised Inventories.

b. Approvability of the MOVES2010a-based Budgets.

c. Applicability of MOBILE6.2-based Budgets.

V. What action is EPA taking?

VI. Statutory and Executive Order Reviews.

I. What is EPA approving?

EPA is approving new MOVES2010a-based onroad emissions inventories and budgets for the Allen, Greene, Vanderburgh, Warrick, and Vigo Counties 1997 8-hour ozone maintenance areas that will replace MOBILE-based inventories and budgets in the SIP. These areas were redesignated to attainment of the 1997 8-hour ozone standard, effective on the following dates: Allen County on February 12, 2007 (72 FR 1292), Greene County on December 29, 2005 (70 FR 69085), Vanderburgh and Warrick Counties on January 30, 2006 (70 FR 77026), and Vigo County on February 6, 2006 (71 FR 541). MOBILE6.2-based onroad emissions inventories and budgets were approved in those actions. Upon the effective date of this action, the MOVES-based budgets must be used in future transportation conformity analyses for these areas, as required by section 176(c) of the CAA. See the official release of the MOVES2010 emissions model (75 FR 9411-9414) for background, and section II.(c) below for details.

II. What is the background for this action?

a. SIP Budgets and Transportation Conformity

Under the CAA, states are required to submit, at various times, control strategy SIP revisions and maintenance plans for nonattainment and maintenance areas for a given national ambient air quality standard (NAAQS). These SIP revisions and maintenance plans include budgets of onroad mobile source emissions for criteria pollutants and/or their precursors. Transportation plans and projects “conform” to (i.e., are consistent with) the SIP when they will not cause or contribute to air quality violations, or delay timely attainment of the NAAQS or an interim milestone.

b. Prior Approval of Budgets

EPA previously approved MOBILE6.2-based budgets for the Allen, Greene, Vanderburgh, Warrick, and Vigo Counties 8-hour ozone maintenance areas for volatile organic compounds (VOCs) and nitrogen oxides (NOX). The Allen County area's ozone maintenance plan established 2020 budgets. The Greene, Vanderburgh, Warrick, and Vigo Counties areas' ozone maintenance plans established 2015 budgets. These budgets demonstrated a reduction in emissions from the monitored attainment year.

c. The MOVES Emissions Model

The MOVES model is EPA's state of the art tool for estimating highway emissions. EPA announced the release of MOVES2010 in March 2010 (75 FR 9411). Use of the MOVES model is required for regional emissions analyses for transportation conformity determinations outside of California that begin after March 2, 2013.

The MOVES model was used to estimate emissions in the areas for the same milestone years as the original onroad emissions inventories and budgets in the SIP. The Indiana Department of Environmental Management (IDEM) is revising the onroad emissions inventories and budgets using the latest planning assumptions, including population and employment updates. In addition, newer vehicle registration data have been used to update the age distribution of the vehicle fleets. Since future demonstrations of conformity will use emissions estimates derived with MOVES, it is appropriate to establish benchmarks based on MOVES. The interagency consultation groups for these areas have had extensive consultation on the requirements and need for new budgets.

d. Submission of New Budgets Based on MOVES2010a

During the state public comment periods for these submittals, Indiana did not receive any comments for the Allen County, Vigo County, or Vanderburgh and Warrick Counties submittals. Indiana received comments requesting clarification on the Greene County submittal from concerned citizens and the Hoosier Environmental Council, and provided responses to the clarifications requested.

Indiana submitted final budgets to EPA, based on MOVES2010a, that cover the Allen County (submitted July 2, 2013), Greene County (submitted July 8, 2013), Vanderburgh and Warrick Counties (submitted July 2, 2013), and Vigo County (submitted July 2, 2013), Indiana areas.

For Allen County, the new MOVES2010a-based budgets are for the year 2020 for both VOCs and NOX. For Greene, Vanderburgh, Warrick, and Vigo Counties, the new MOVES2010a based budgets are for the year 2015 for both VOCs and NOX. The budgets for these areas are detailed later in this notice. Indiana also provided the areas' total emissions, including onroad mobile emissions inventories based on MOVES2010a, for the attainment year, the interim budget year, and the maintenance year. The combined emissions reduction from all sectors between the attainment year and the maintenance year for each area is shown as well. Total emissions include point, area, nonroad mobile and onroad mobile sources. The total emissions and combined emissions reduction from all sectors from the attainment year to the maintenance year for VOC and NOX are shown for each area in tables 1 through 8.

Table 1—Total VOC Emissions With MOVES2010a Mobile Emissions in Allen County, Indiana
[tons per day]
Sector | 2004 Attainment | 2010 Interim | 2020 Maintenance | Combined emissions reduction (2004-2020)
Point | 9.33 | 7.91 | 9.74 |
Area | 18.99 | 20.00 | 22.17 |
Onroad | 14.86 | 8.97 | 3.93 |
Nonroad | 10.10 | 7.02 | 6.57 |
Total | 53.28 | 43.90 | 42.41 | 10.87

Table 2—Total NOX Emissions With MOVES2010a Mobile Emissions in Allen County, Indiana
[tons per day]
Sector | 2004 Attainment | 2010 Interim | 2020 Maintenance | Combined emissions reduction (2004-2020)
Point | 4.88 | 4.69 | 4.78 |
Area | 3.89 | 4.09 | 4.33 |
Onroad | 37.95 | 22.09 | 8.45 |
Nonroad | 13.01 | 9.84 | 6.98 |
Total | 59.73 | 40.71 | 24.54 | 35.19

Table 3—Total VOC Emissions With MOVES2010a Mobile Emissions in Greene County, Indiana
[tons per day]
Sector | 2002 Attainment | 2010 Interim | 2015 Maintenance | Combined emissions reduction (2002-2015)
Point | 0.51 | 0.59 | 0.64 |
Area | 3.73 | 4.33 | 4.74 |
Onroad | 1.92 | 1.16 | 0.78 |
Nonroad | 1.43 | 1.14 | 0.94 |
Total | 7.59 | 7.22 | 7.10 | 0.49

Table 4—Total NOX Emissions With MOVES2010a Mobile Emissions in Greene County, Indiana
[tons per day]
Sector | 2002 Attainment | 2010 Interim | 2015 Maintenance | Combined emissions reduction (2002-2015)
Point | 0.68 | 0.46 | 0.47 |
Area | 0.25 | 0.27 | 0.27 |
Onroad | 4.50 | 2.55 | 2.01 |
Nonroad | 1.61 | 1.37 | 1.22 |
Total | 7.04 | 4.65 | 3.97 | 3.07

Table 5—Total VOC Emissions With MOVES2010a Mobile Emissions in Vanderburgh and Warrick Counties, Indiana
[tons per day]
Sector | 2002 Attainment | 2010 Interim | 2015 Maintenance | Combined emissions reduction (2002-2015)
Point | 5.16 | 6.77 | 8.09 |
Area | 18.60 | 21.36 | 23.46 |
Onroad | 12.16 | 6.84 | 4.37 |
Nonroad | 6.16 | 4.42 | 3.80 |
Total | 42.08 | 39.39 | 39.72 | 2.36

Table 6—Total NOX Emissions With MOVES2010a Mobile Emissions in Vanderburgh and Warrick Counties, Indiana
[tons per day]
Sector | 2002 Attainment | 2010 Interim | 2015 Maintenance | Combined emissions reduction (2002-2015)
Point | 70.19 | 30.18 | 31.43 |
Area | 2.95 | 3.20 | 3.27 |
Onroad | 36.23 | 18.99 | 10.96 |
Nonroad | 5.88 | 4.52 | 3.23 |
Total | 115.25 | 56.89 | 48.89 | 66.36

Table 7—Total VOC Emissions With MOVES2010a Mobile Emissions in Vigo County, Indiana
[tons per day]
Sector | 2002 Attainment | 2010 Interim | 2015 Maintenance | Combined emissions reduction (2002-2015)
Point | 6.52 | 7.24 | 8.42 |
Area | 8.56 | 9.89 | 10.83 |
Onroad | 5.79 | 3.06 | 1.88 |
Nonroad | 2.80 | 1.93 | 1.67 |
Total | 23.67 | 22.12 | 22.80 | 0.87

Table 8—Total NOX Emissions With MOVES2010a Mobile Emissions in Vigo County, Indiana
[tons per day]
Sector | 2002 Attainment | 2010 Interim | 2015 Maintenance | Combined emissions reduction (2002-2015)
Point | 33.63 | 12.91 | 12.93 |
Area | 1.30 | 1.40 | 1.43 |
Onroad | 14.87 | 7.49 | 4.41 |
Nonroad | 2.53 | 2.01 | 1.53 |
Total | 52.33 | 23.81 | 20.30 | 32.03

As shown in tables 1 through 8, the submittals demonstrate how the areas' emissions have declined from the attainment year to maintain the 1997 8-hour ozone standard.

No additional control measures were needed to maintain the 1997 8-hour ozone standard in Allen, Greene, Vanderburgh, Warrick, and Vigo Counties. An appropriate safety margin for NOX and VOCs was selected by the interagency consultation groups for each area, which consist of representatives from the Federal Highway Administration, IDEM, Indiana Department of Transportation, and EPA. The submitted budgets for these areas and their safety margins are addressed later in this notice.

III. What are the criteria for approval?

EPA requires that revisions to existing SIPs and budgets continue to meet applicable requirements (e.g., reasonable further progress, attainment, or maintenance). The SIP must also meet any applicable SIP requirements under CAA section 110. In addition, adequacy criteria found at 40 CFR 93.118(e)(4) must be satisfied before EPA can find submitted budgets adequate and approve them for conformity purposes.

States can revise their budgets and inventories for specific areas using MOVES without revising their entire SIP if (1) the SIP continues to meet applicable requirements when the previous motor vehicle emissions inventories are replaced with MOVES base year and milestone, attainment, or maintenance year inventories, and (2) the state can document that growth and control strategy assumptions for non-motor vehicle sources continue to be valid and any minor updates do not change the overall effectiveness of the SIP. The submittals meet this requirement as described below in the next section.

For more information, see EPA's latest “Policy Guidance on the Use of MOVES2010 for SIP Development, Transportation Conformity, and Other Purposes” (April 2012), available online at: www.epa.gov/otaq/stateresources/transconf/policy.htm#models.

IV. What is EPA's analysis of the state's submittals?

a. The Revised Inventories

The SIP revision requests for these areas' 1997 ozone maintenance plans seek to revise only the onroad mobile source inventories. IDEM has certified that the control strategies for each area remain the same as in the original SIP, and that no other control strategies are necessary. IDEM has determined that growth and control strategy assumptions for non-mobile sources (i.e., area, nonroad, and point) have not changed significantly from the original submittals. This is confirmed by the monitoring data for the five areas, which continue to monitor attainment for the 1997 8-hour ozone standard.

IDEM's submittals confirm that the total emissions in the revised SIP (which includes MOVES2010a emissions from mobile sources) as shown in tables 1 through 8 demonstrate that emissions in the areas continue to decline and remain below the attainment levels.

Indiana has submitted MOVES 2010a-based budgets for Allen, Greene, Vanderburgh, Warrick, and Vigo Counties that are clearly identified in the submittals. The budgets are displayed in tables 9 through 12. It should be noted that in tables 9 through 12, for onroad emissions of both VOC and NOX, a 15% safety margin ¹ has been applied to reach the values shown.

¹ The safety margin is achieved by adding a certain percentage of emissions, in tons per day, onto the MOVES-based onroad emissions budgets. In this case, Indiana chose to add a 15% safety margin to its budgets for these areas. The safety margin cannot exceed the combined emissions reduction (shown in tables 1 through 8) for the area.

Table 9—Motor Vehicle Emission Budgets (MOVES) for the Allen County, Indiana 1997 Ozone Area
[In tons per day]
Year | 2020
VOC | 4.52
NOX | 9.72

Table 10—Motor Vehicle Emission Budgets (MOVES) for the Greene County, Indiana 1997 Ozone Area
[In tons per day]
Year | 2015
VOC | 0.90
NOX | 2.31

Table 11—Motor Vehicle Emission Budgets (MOVES) for the Vanderburgh and Warrick Counties, Indiana 1997 Ozone Area
[In tons per day]
Year | 2015
VOC | 5.02
NOX | 12.61

Table 12—Motor Vehicle Emission Budgets (MOVES) for the Vigo County, Indiana 1997 Ozone Area
[In tons per day]
Year | 2015
VOC | 2.17
NOX | 5.07

b. Approvability of the MOVES2010a-based Budgets

EPA is approving the MOVES2010a-based budgets submitted by Indiana for use in determining transportation conformity in the Allen, Greene, Vanderburgh, Warrick, and Vigo Counties, Indiana 1997 ozone maintenance areas. EPA evaluated the MOVES-based budgets using the adequacy criteria found in 40 CFR 93.118(e)(4) and SIP requirements.

Before submitting the revised budgets, IDEM followed all necessary conformity procedures. The budgets are clearly identified and precisely quantified in the submittals. The budgets, when considered with other emissions sources, are consistent with continued maintenance of the 1997 ozone standard. The budgets are clearly related to the emissions inventories and control measures in the SIP. The changes from the previous budgets are clearly explained with the change in the model from MOBILE6.2 to MOVES2010a and the revised and updated planning assumptions. The inputs to the model are detailed in the Appendices to the submittals. EPA has reviewed the inputs to the MOVES2010a modeling and participated in the consultation process. The Federal Highway Administration and the Indiana Department of Transportation have taken a lead role in working with the areas' metropolitan planning organizations to provide accurate, timely information and inputs to the MOVES2010a model runs. The state has documented that growth and control strategy assumptions for non-motor vehicle sources (i.e. area, nonroad, and point) continue to be valid and any minor updates do not change the overall conclusions of the SIP.

Indiana's submissions confirm that the SIP continues to demonstrate maintenance of the 1997 ozone standard because the total emissions in the revised SIP (including MOVES2010a emissions for onroad mobile sources) continue to decrease from the attainment year to the final year of the maintenance plans for these areas, as shown in tables 1 through 8. As tables 1 through 12 show, the submitted budgets include an appropriate margin of safety while still maintaining total emissions below the attainment level.

Based on our review of the SIP and the new budgets provided, EPA has determined that the SIP will continue to meet the requirements if the revised motor vehicle emissions inventories are replaced with MOVES2010a inventories.

c. Applicability of MOBILE6.2-based Budgets

Upon the effective date of the approval of the revised budgets, the state's existing MOBILE6.2-based budgets for these areas will no longer be applicable for transportation conformity purposes.

V. What action is EPA taking?

EPA is approving the submitted onroad mobile source emissions inventories and the submitted budgets for the Allen County (submitted July 2, 2013), Greene County (submitted July 8, 2013), Vanderburgh and Warrick Counties (submitted July 2, 2013), and Vigo County (submitted July 2, 2013), Indiana 1997 ozone maintenance plans. We are publishing this action without prior proposal because we view this as a noncontroversial amendment and anticipate no adverse comments. However, in the proposed rules section of this Federal Register publication, we are publishing a separate document that will serve as the proposal to approve the state plan if relevant adverse written comments are filed. This rule will be effective April 28, 2014 without further notice unless we receive relevant adverse written comments by March 27, 2014. If we receive such comments, we will withdraw this action before the effective date by publishing a subsequent document that will withdraw the final action. All public comments received will then be addressed in a subsequent final rule based on the proposed action. EPA will not institute a second comment period. Any parties interested in commenting on this action should do so at this time. Please note that if EPA receives adverse comment on an amendment, paragraph, or section of this rule and if that provision may be severed from the remainder of the rule, EPA may adopt as final those provisions of the rule that are not the subject of an adverse comment. If we do not receive any comments, this action will be effective April 28, 2014.

VI. Statutory and Executive Order Reviews

Under the CAA, the Administrator is required to approve a SIP submission that complies with the provisions of the CAA and applicable Federal regulations. 42 U.S.C. 7410(k); 40 CFR 52.02(a). Thus, in reviewing SIP submissions, EPA's role is to approve state choices, provided that they meet the criteria of the CAA. Accordingly, this action merely approves state law as meeting Federal requirements and does not impose additional requirements beyond those imposed by state law. For that reason, this action:

• Is not a “significant regulatory action” subject to review by the Office of Management and Budget under Executive Order 12866 (58 FR 51735, October 4, 1993);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Public Law 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the CAA; and

• Does not provide EPA with the discretionary authority to address, as appropriate, disproportionate human health or environmental effects, using practicable and legally permissible methods, under Executive Order 12898 (59 FR 7629, February 16, 1994).

In addition, this rule does not have tribal implications as specified by Executive Order 13175 (65 FR 67249, November 9, 2000), because the SIP is not approved to apply in Indian country located in the state, and EPA notes that it will not impose substantial direct costs on tribal governments or preempt tribal law.

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the CAA, petitions for judicial review of this action must be filed in the United States Court of Appeals for the appropriate circuit by April 28, 2014. Filing a petition for reconsideration by the Administrator of this final rule does not affect the finality of this action for the purposes of judicial review nor does it extend the time within which a petition for judicial review may be filed, and shall not postpone the effectiveness of such rule or action. Parties with objections to this direct final rule are encouraged to file a comment in response to the parallel notice of proposed rulemaking for this action published in the proposed rules section of today's Federal Register, rather than file an immediate petition for judicial review of this direct final rule, so that EPA can withdraw this direct final rule and address the comment in the proposed rulemaking. This action may not be challenged later in proceedings to enforce its requirements. (See section 307(b)(2).)

List of Subjects in 40 CFR Part 52

Environmental protection, Air pollution control, Incorporation by reference, Intergovernmental relations, Nitrogen dioxide, Ozone, Volatile organic compounds.

Dated: January 31, 2014.
Susan Hedman,
Regional Administrator, Region 5.

40 CFR part 52 is amended as follows:

PART 52—APPROVAL AND PROMULGATION OF IMPLEMENTATION PLANS

1. The authority citation for part 52 continues to read as follows:

Authority: 42 U.S.C. 7401 et seq.

2. In § 52.770 the table in paragraph (e) is amended by adding new entries in alphabetical order for “Allen County 1997 8-hour ozone maintenance plan”, “Greene County 1997 8-hour ozone maintenance plan”, “Vanderburgh and Warrick Counties 1997 8-hour ozone maintenance plan”, and “Vigo County 1997 8-hour ozone maintenance plan” to read as follows:

§ 52.770 Identification of plan.

* * * * *

(e) * * *

EPA-Approved Indiana Nonregulatory and Quasi-Regulatory Provisions
Title | Indiana date | EPA Approval | Explanation
Allen County 1997 8-hour ozone maintenance plan |  | 2/25/14, [INSERT PAGE NUMBER WHERE THE DOCUMENT BEGINS] | Revision to motor vehicle emission budgets.
* * * * * * *
Greene County 1997 8-hour ozone maintenance plan |  | 2/25/14, [INSERT PAGE NUMBER WHERE THE DOCUMENT BEGINS] | Revision to motor vehicle emission budgets.
* * * * * * *
Vanderburgh and Warrick Counties 1997 8-hour ozone maintenance plan |  | 2/25/14, [INSERT PAGE NUMBER WHERE THE DOCUMENT BEGINS] | Revision to motor vehicle emission budgets.
Vigo County 1997 8-hour ozone maintenance plan |  | 2/25/14, [INSERT PAGE NUMBER WHERE THE DOCUMENT BEGINS] | Revision to motor vehicle emission budgets.
* * * * * * *

3. Section 52.777 is amended by:

a. Redesignating paragraphs (bb), (dd), (ee), and (ff) as paragraphs (bb)(1), (dd)(1), (ee)(1), and (ff)(1); and

b. Adding paragraphs (bb)(2), (dd)(2), (ee)(2), and (ff)(2).

The additions read as follows:

§ 52.777 Control strategy: photochemical oxidants (hydrocarbons).

* * * * *

(bb) * * *

(2) Approval—On July 8, 2013, Indiana submitted a request to revise the approved MOBILE6.2 motor vehicle emission budgets (budgets) in the 1997 8-hour ozone maintenance plan for the Greene County, Indiana area. The budgets are being revised with budgets developed with the MOVES2010a model. The 2015 budgets for Greene County, Indiana are 0.90 tons per day VOC and 2.31 tons per day NOX.

* * * * *

(dd) * * *

(2) Approval—On July 2, 2013, Indiana submitted a request to revise the approved MOBILE6.2 motor vehicle emission budgets (budgets) in the 1997 8-hour ozone maintenance plan for the Vigo County, Indiana area. The budgets are being revised with budgets developed with the MOVES2010a model. The 2015 budgets for Vigo County, Indiana are 2.17 tons per day VOC and 5.07 tons per day NOX.

(ee) * * *

(2) Approval—On July 2, 2013, Indiana submitted a request to revise the approved MOBILE6.2 motor vehicle emission budgets (budgets) in the 1997 8-hour ozone maintenance plan for the Vanderburgh and Warrick Counties, Indiana area. The budgets are being revised with budgets developed with the MOVES2010a model. The 2015 budgets for Vanderburgh and Warrick Counties, Indiana are 5.02 tons per day VOC and 12.61 tons per day NOX.

(ff) * * *

(2) Approval—On July 2, 2013, Indiana submitted a request to revise the approved MOBILE6.2 motor vehicle emission budgets (budgets) in the 1997 8-hour ozone maintenance plan for the Allen County, Indiana area. The budgets are being revised with budgets developed with the MOVES2010a model. The 2020 budgets for Allen County, Indiana are 4.52 tons per day VOC and 9.72 tons per day NOX.

* * * * *

[FR Doc. 2014-03170 Filed 2-24-14; 8:45 am]

BILLING CODE 6560-50-P